DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2011, there were two applications approved. This notice also includes information on two other applications, one approved in September 2011 and one approved in November 2011, inadvertently left off the September 2011 and November 2011 notices, respectively. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: County of Onslow, Jacksonville, North Carolina.

Application Number: 11-08-C-00-0AJ.

Application Type: Impose and use a PFC.

PFC Level: $4.50.

Total PFC Revenue Approved in This Decision: $10,066,502.

Earliest Charge Effective Date: November 1, 2011.

Estimated Charge Expiration Date: April 1, 2029.

Class of Air Carriers Not Required To Collect PEG's: Air taxi commercial operators filing FAA Form 1800-31.

Determination: Approved. Based on information contained in the public agency's application, the FAA has determined that the approved class accounts for less than 1 percent of the total annual enplanements at Albert J. Ellis Airport.

Brief Description of Projects Approved for Collection and Use:

Terminal development—design and construction.

Site utilities—design and construction.

Stormwater facilities—design and construction.

Airside/apron—design and construction.

Landside/roadway—design and construction.

General aviation terminal/apron—design and construction.

Airport beacon relocation—design and construction.

Air traffic control tower site study.

Security/wildlife fencing—design and construction.

Airfield drainage improvements—design and construction.

Emergency access road improvements—design and construction.

PFC application development.

PFC program administration.

Brief Description of Projects Approved for Collection:

Land acquisition.

Air traffic control tower design.

Air traffic control tower construction.

Brief Description of Disapproved Project:

Maintenance equipment building—design.

Determination: Disapproved. The FAA determined that this project does not meet the requirements of § 158.15(b). It is not eligible in accordance with paragraph 501 of FAA Order 5100.38C, Airport Improvement Program Handbook, June 28, 2005.

Decision Date: September 8, 2011.

For Further Information Contact: John Marshall, Atlanta Airports District Office, (404) 305-7153.

Public Agency: Cities of Fort Collins and Loveland, Loveland, Colorado.

Application Number: 11-07-C-00-FNL.

Application Type: Impose and use a PFC.

PFC Level: $4.50.

Total PFC Revenue Approved in This Decision: $403,699.

Earliest Charge Effective Date: February 1, 2012.

Estimated Charge Expiration Date: March 1, 2015.

Classes of Air Carriers Not Required To Collect PFC's: None.

Brief Description of Projects Approved for Collection and Use:

Terminal modular building utility upgrades.

Terminal modular building electrical upgrades.

Purchase and install terminal modular #2.

Survey, geotechnical and design of general aviation ramp rehabilitation.

Airport geographic information system plan and submission.

Complete T-Hangar pavement rehabilitation—taxi lanes 1 and 3 (east).

Perimeter security fencing.

General aviation ramp rehabilitation.

Purchase snow removal equipment.

Acquire aircraft rescue and firefighting vehicle.

Construct commercial apron expansion.

Airport terminal expansion concept design.

Airport terminal expansion site work.

Airport terminal expansion (phase 1).

Construct taxiway F.

Decision Date: November 28, 2011.

For Further Information Contact: Jesse Lyman, Denver Airports District Office, (303) 342-1262.

Public Agency: Cedar City Corporation, Cedar City, Utah.

Application Number: 12-02-C-00-CDC.

Application Type: Impose and use a PFC.

PFC Level: $4.50.

Total PFC Revenue Approved in This Decision: $170,000.

Earliest Charge Effective Date: February 1, 2012.

Estimated Charge Expiration Date: March 1, 2016.

Class of Air Carriers Not Required to Collect PFC'S: Non-scheduled/on demand air carriers filing FAA Form 1800-31.

Determination: Approved. Based on information contained in the public agency's application, the FAA has determined that the approved class accounts for less than 1 percent of the total annual enplanements at Cedar City Regional Airport.

Brief Description of Projects Approved for Collection and Use:

Construct corporate apron.

Construct taxiway Delta (widening).

Rehabilitate helipad.

Construct snow removal building.

Brief Description of Withdrawn Project:

Rehabilitate runway 8/26.

Date of Withdrawal: December 14, 2011.

Decision Date: December 16, 2011.

For Further Information Contact: Jesse Lyman, Denver Airports District Office, (303) 342-1262.

Public Agency: Mason City Airport Commission, Mason City, Iowa.

Application Number: 12-03-C-00-MCW.

Application Type: Impose and use a PFC.

PFC Level: $4.50.

Total PFC Revenue Approved in This Decision: $705,756.

Earliest Charge Effective Date: April 1, 2014.

Estimated Charge Expiration Date: February 1, 2020.

Classes of Air Carriers Not Required To Collect PFC's: (1) Air taxi/commercial operators; and (2) commuter or small-certificated air carriers filing Department of Transportation Form T-100.

Determination: Approved. Based on information contained in the public agency's application, the FAA has determined that each approved class accounts for less than 1 percent of the total annual enplanements at Mason City Municipal Airport.

Brief Description of Projects Approved for Collection and Use:

Aircraft rescue and firefighting vehicle.

Taxi lane extension.

Security checkpoint.

Runway 18/36 rehabilitation and localizer relocation.

Runway 12/30 rehabilitation phase 1 and runway protection zone land.

Runway 12/30 rehabilitation phase 2.

Taxiway Alpha rehabilitation.

Perimeter fence.

Rehabilitate taxiway BC.

Friction meter.

PFC administration.

Decision Date: December 19, 2011.

For Further Information Contact: Mark Schenkelberg, Central Region Airports Division, (816) 329-2645.

Amendments to PFC Approvals
Amendment No., city, state | Amendment approved date | Original approved net PFC revenue | Amended approved net PFC revenue | Original estimated charge exp. date | Amended estimated charge exp. date
10-04-C-01-BTV Burlington, VT | 11/23/11 | $17,298,103 | $17,467,574 | 03/01/14 | 04/01/14
03-03-1-02-GLH Greenville, MS | 11/29/11 | 88,495 | 21,327 | 12/01/05 | 12/01/05
05-04-C-02-GLH Greenville, MS | 11/29/11 | 135,614 | 135,614 | 08/01/08 | 08/01/08
05-04-C-03-GLH Greenville, MS | 11/29/11 | 135,614 | 124,964 | 08/01/08 | 08/01/08
08-05-C-01-GLH Greenville, MS | 11/29/11 | 39,427 | 37,468 | 08/01/11 | 08/01/11
01-03-C-02-LWS Lewiston, ID | 12/05/11 | 1,300,088 | 1,678,251 | 02/01/12 | 12/01/12
91-01-C-03-SAV Savannah, GA | 12/07/11 | 49,908,639 | 48,179,908 | 12/01/10 | 02/01/10
00-03-C-02-0KC Oklahoma City, OK | 12/14/11 | 116,951,506 | 115,050,416 | 08/01/20 | 05/01/20
10-02-C-01-PHF Newport News, VA | 12/21/11 | 18,910,908 | 15,866,709 | 03/01/20 | 03/01/17

Issued in Washington, DC, on January 4, 2012.
Joe Hebert,
Manager, Financial Analysis and Passenger Facility Charge Branch.

[FR Doc. 2012-240 Filed 1-10-12; 8:45 am]

BILLING CODE 4910-13-M